FEDERAL MARITIME COMMISSION

[DOCKET NO. 19-02]

Toyota de Puerto Rico, Corp., Complainant v. Puerto Rico Ports Authority, Crowley Puerto Rico Services, Inc., and Oceanic General Agency Inc., Respondents; Notice of Filing of Complaint and Assignment

Served: February 4, 2019.

Notice is given that a complaint has been filed with the Federal Maritime Commission (Commission) by Toyota de Puerto Rico, Corp., hereinafter “Complainant,” against Puerto Rico Ports Authority, Crowley Puerto Rico Services, Inc., and Oceanic General Agency Inc., hereinafter “Respondents.” Complainant states that it “ . . . is a corporation duly organized under the laws of the Commonwealth of Puerto Rico. . . .” Complainant states that Respondent Puerto Rico Ports Authority “. . . is a public corporation responsible for managing the San Juan ports facilities, including the terminals where containerized cargo is received.” Complainant states that Respondents Crowley Puerto Rico Services, Inc., and Oceanic General Agency Inc. are “ . . . corporation(s) duly organized under the laws of the Commonwealth of Puerto Rico. . . . ”

Complainant alleges that it was charged the Enhanced Security Fee by and through Respondents, after a U.S. District Court found that fee to be unconstitutional as it applied to customers such as the Complainant whose cargo did not undergo security scanning. Complainant further alleges that “this was the normal, customary and continuous practice until 2017, and impacted Toyota as a shipper.”

Complainant states that it “ . . . seeks reparations for the injury caused to Toyota by Respondents through violations of the prohibitions against undue, unfair, unjust and unreasonably discriminatory and prejudicial practices that apply to marine terminal operators and common carriers under the Shipping Act of 1984, 46 U.S.C. 41102(c), 41104(4), (5) and (9), and 41106 (2).”

Complainant seeks reparations in the amount of $1,166,952.59, and other relief. The full text of the complaint can be found in the Commission's Electronic Reading Room at www.fmc.gov/19-02/.

This proceeding has been assigned to the Office of Administrative Law Judges. The initial decision of the presiding officer in this proceeding shall be issued by February 4, 2020, and the final decision of the Commission shall be issued by August 18, 2020.

Rachel Dickon,
Secretary.

[FR Doc. 2019-01503 Filed 2-6-19; 8:45 am]

BILLING CODE 6731-AA-P